DEPARTMENT OF THE INTERIOR

Bureau of Land Management

[WY-920-1320-EL; WYW151634]

Notice of Availability of West Hay Creek Lease by Application (LBA) Final Environmental Impact Statement (FEIS), Wyoming

AGENCY: Bureau of Land Management, Interior.

ACTION: Notice of availability (NOA) of Final Environmental Impact Statement (FEIS) for the West Hay Creek LBA tract, for Federal coal in the decertified Powder River Federal Coal Production Region, Wyoming.

SUMMARY: Under the National Environmental Policy Act (NEPA) implementing regulations and other applicable statutes the Bureau of Land Management (BLM) announces the availability of the West Hay Creek LBA FEIS. The FEIS analyzes the impacts of issuing a Federal coal lease in the Wyoming portion of the Powder River Basin.

DATES: The FEIS will be available for review for 30 calendar days from the date the Environmental Protection Agency (EPA) publishes its NOA in the Federal Register. The BLM can best utilize your comments and resource information submissions within the 30 day review period provided above.

ADDRESSES: Please address questions, comments, or concerns to the Casper Field Office, Bureau of Land Management, Attn: Patricia Karbs, 2987 Prospector Drive, Casper, Wyoming 82604, fax them to 307-261-7587, or send e-mail comments to casper_wymail@blm.gov., Attn: Patricia Karbs. Copies of the FEIS are available for public inspection at the following BLM office locations:

• Bureau of Land Management, Wyoming State Office, 5353 Yellowstone Road, Cheyenne, Wyoming 82009.

• Bureau of Land Management, Casper Field Office, 2987 Prospector Lane, Casper, Wyoming 82604.

The FEIS is also available electronically on the Internet at http://www.wy.blm.gov/cfo/minerals.htm#docs.

FOR FURTHER INFORMATION CONTACT: Patricia Karbs or Nancy Doelger; BLM Casper Field Office, 2987 Prospector Lane, Casper, Wyoming 82604. Ms. Karbs and Ms. Doelger may also be contacted by telephone at 307-261-7600.

SUPPLEMENTARY INFORMATION: On August 31, 2000, Triton Coal Company (Triton), a subsidiary of Vulcan Intermediary, LLC, filed an application for a coal lease maintenance tract in an area adjacent to the company's Buckskin Mine including approximately 933 acres and containing approximately 135 million tons of Federal coal. This tract has been assigned case number WYW151634, and is known as the West Hay Creek tract. On November 5, 2001, BLM received a request from Triton to modify the West Hay Creek tract to include the following lands in Campbell County, Wyoming:

T. 52 N., R. 72 W., 6th P.M., Wyoming

Section 17: Lots 5 (S½ S½), 6 (S½S½), 7 (S½S½), 8 (S½S½), 9-14;

Section 18: Lots 13 (E½), 20 (E½);

Section 19: Lots 5 (E½), 12 (E½), 13 (E½), 20 (E½);

Section 20: Lots 2 (W½, W½E½), 3-6, 7 (W½,W½E½), 10 (W½, W½E½), 11-14.

Containing 838.0975 acres, more or less.

In May 2003, Arch Coal purchased Vulcan Coal Holdings, LLC including the Buckskin Mine operations. To maintain continuity with the original application, Notice of Intent (NOI) and Draft EIS, the applicant is referred to as Triton in this Notice as well as the FEIS.

The Buckskin Mine and West Hay Creek tract are located in Campbell County, Wyoming. The tract was applied for as an LBA tract under the provisions of 43 Code of Federal Regulations (CFR) 3425.1. Triton proposes to mine the modified West Hay Creek LBA tract as a maintenance tract for the Buckskin Mine and estimates that the tract includes an estimated 145 million tons of in-place Federal coal. At Buckskin's proposed mining rate of 25 million tons of coal per year this amount of recoverable coal would extend the life of the Buckskin Mine by approximately 6 years.

The Powder River Regional Coal Team (RCT) reviewed this competitive application at public meetings held on October 25, 2000, in Cheyenne, Wyoming, and May 30, 2002, in Casper, Wyoming. The RCT recommended that BLM continue to process this LBA. The BLM published an NOI in the Federal Register to prepare an Environmental Impact Statement (EIS) on June 25, 2002.

On March 21 and March 28, 2003, respectively, the BLM and the EPA each published an NOA in the Federal Register announcing that the Draft EIS was available for public review and comment. Pursuant to 43 CFR 3425.4, a formal public hearing on the West Hay Creek tract application was held on April 16, 2003, in Gillette, Wyoming. The purpose of the hearing was to solicit public comments on the Draft EIS and on: (1) The fair market value, (2) the maximum economic recovery, and (3) the proposed competitive sale of the coal included in the proposed tract. The 60-day review and comment period on the Draft EIS ended on May 27, 2003.

The FEIS analyzes leasing the West Hay Creek tract as applied for as the Proposed Action (Alternative 3). As part of the coal leasing process, to avoid bypassing coal or to increase potential competitive interest in the tract, the BLM will evaluate the tract configuration, and may decide to add or subtract Federal coal. The preferred tract configuration that BLM has identified for this tract is described and analyzed as Alternative 2 in the EIS. The EIS also analyzes the alternative of rejecting this application to lease this tract of Federal coal as the No Action Alternative.

The Final EIS for the West Hay Creek tract analyzes the effects of three alternatives:

• Alternative 1, the No Action Alternative;

• Alternative 2, the Preferred Alternative; and,

• Alternative 3, the Proposed Action.

The No Action alternative assumes that the coal lease application would be rejected and the West Hay Creek Federal coal tract would not be offered for competitive sale. Under the Preferred Alternative the size of the tract as applied for would be reconfigured and increased, and the larger tract would be offered for competitive sale. The Proposed Action alternative assumes that the size and configuration of the tract of coal as proposed and included in Triton's application would remain the same and would be offered for competitive sale.

The Agency-preferred Alternative: The BLM's preferred alternative is Alternative 2.

If implemented, the Proposed Action or any of its alternatives considered in the EIS would be in conformance with the “Approved Resource Management Plan for Public Lands Administration by the Bureau of Land Management Buffalo Field Office” (April 2001, amended 2003).

The Buckskin Mine adjacent to the lease application area has an approved mining and reclamation plan from the Wyoming Department of Environmental Quality (WYDEQ), Land Quality Division. WYDEQ Air Quality Division has permitted the mine operator to mine up to 27.5 million tons of coal per year.

The Office of Surface Mining Reclamation and Enforcement (OSM) is a cooperating agency in the preparation of this EIS. If the West Hay Creek LBA tract is leased to the applicant, the new lease must be incorporated into the existing mining plan for the adjacent Buckskin Mine. Before the Federal coal in the tract can be mined, the Secretary of the Interior must approve the revised Mineral Leasing Act (MLA) mining plan. If the tract is leased OSM is the Federal agency that would be responsible for recommending approval, approval with conditions, or disapproval of the MLA mining plan to the Secretary of the Interior.

Seven written comments were received on the Draft EIS, and one comment was recorded at the 2003 public hearing. The issues that were identified in the comment letters and at the hearing included potential conflicts with existing conventional oil and gas and coalbed methane development; potential cumulative impacts of increasing mineral development in the Powder River Basin; validity and currency of resource data; potential impacts to threatened and endangered species and other species of concern; potential cumulative air quality impacts; private versus Federal leasing.

The BLM will consider all comments received on the FEIS in its preparation of the Record of Decision (ROD) and BLM's response to those comments included with the ROD. To be given consideration by BLM, all FEIS comment submittals must include the commenter's name and street address.

Our practice is to make comments, including the names and street addresses of each respondent, available for public review at the BLM offices listed above during business hours (8 a.m. to 4:30 p.m.), Monday through Friday, except for Federal holidays. Your comments may be published as part of the EIS process. Individual respondents may request confidentiality. If you wish to withhold your name, street address, or both, from public review or from disclosure under the Freedom of Information Act, you must state this prominently at the beginning of your written comments. Such requests will be honored to the extent allowed by law. We will not consider anonymous comments. All submissions from organizations or businesses will be made available for public inspection in their entirety.

Dated: May 3, 2004.
Alan L. Kesterke,
Associate State Director.

[FR Doc. 04-13669 Filed 6-16-04; 8:45 am]

BILLING CODE 4310-22-P